FEDERAL COMMUNICATIONS COMMISSION

47 CFR Part 73

[DA 00-2301; MM Docket No. 00-194, RM-9972; MM Docket No. 00-195, RM-9973; MM Docket No. 00-196, RM-9974; MM Docket No. 00-197, RM-9975]

Radio Broadcasting Services; Paradise, MI; Clinton TN; Lynchburg, TN; Rincon, TX

AGENCY: Federal Communications Commission.

ACTION: Proposed rule.

SUMMARY: This document proposes four new allotments to Paradise, MI; Lynchburg, TN; Clinton, TN; and Rincon, TX. The Commission requests comments on a petition filed by David C. Schaburg proposing the allotment of Channel 234A at Paradise, Michigan, as the community's first local aural transmission service. Channel 234A can be allotted to Paradise in compliance with the Commission's minimum distance separation requirements at city reference coordinates. The coordinates for Channel 234A at Paradise are 46-37-42 North Latitude and 85-02-18 West Longitude. Since Paradise is located within 320 kilometers (199 miles) of the U.S.-Canadian border, concurrence of the Canadian government has been requested. See SUPPLEMENTARY INFORMATION.

DATES: Comments must be filed on or before December 1, 2000, and reply comments on or before December 18, 2000.

ADDRESSES: Federal Communications Commission, Washington, DC 20554. In addition to filing comments with the FCC, interested parties should serve the petitioner, his counsel, or consultant, as follows:

David C. Schaburg, 3105 S. MLK, #169, Lansing, Michigan (Petitioner for the Paradise, MI proposal);

Clyde Scott, Jr., D.B.A. EME Communications, 293 JC Saunders Road, Moultrie, GA 31768 (Petitioner for the Clinton, TN proposal);

Donald E. Martin, P.C., 6060 Hardwick Place, Falls Church, Virginia 22041 (Counsel for Mash Media); and

Quevalle Communications, c/o Michael Celenza, 41 Kathleen Crescent, Coran, NY 11727 (Petitioner for the Rincon, TX proposal).

FOR FURTHER INFORMATION CONTACT: R. Barthen Gorman, Mass Media Bureau, (202) 418-2180.

SUPPLEMENTARY INFORMATION: This is a synopsis of the Commission's Notice of Proposed Rule Making, MM Docket No. 00-194; MM Docket No. 00-195; MM Docket No. 00-196; and MM Docket No. 00-197, adopted September 27, 2000, and released October 11, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW, Washington, DC 20036.

The Commission requests comments on a petition filed by Clyde Scott, Jr., D.B.A. EME Communications proposing the allotment of Channel 291A at Clinton, Tennessee, as the community's third local FM transmission service and fourth aural service. Channel 291A can be allotted to Clinton in compliance with the Commission's minimum distance separation requirements with a site restriction of 12.3 kilometers (7.7 miles) west of city reference coordinates. The coordinates for Channel 291A at Clinton are 36-06-39 North Latitude and 84-15-54 West Longitude.

The Commission requests comments on a petition filed by Mash Media proposing the allotment of Channel 296A at Lynchburg, Tennessee, as the community's first local aural transmission service. Channel 296A can be allotted to Lynchburg in compliance with the Commission's minimum distance separation requirements at city reference coordinates. The coordinates for Channel 296A at Lynchburg are 35-16-54 North Latitude and 86-22-24 West Longitude.

The Commission requests comments on a petition filed by Quevalle Communications proposing the allotment of Channel 284A at Rincon, Texas, as the community's first local aural transmission service. Channel 284A can be allotted to Rincon in compliance with the Commission's minimum distance separation requirements with a site restriction of 11.7 kilometers (7.3 miles) northwest of city reference coordinates. The coordinates for Channel 284A at Rincon are 26-34-21 North Latitude and 98-41-27 West Longitude. Since Rincon is located within 320 kilometers (199 miles) of the U.S.-Mexican border, concurrence of the Mexican government has been requested.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Michigan, is amended by adding Paradise, Channel 234A.

3. Section 73.202(b), the Table of FM Allotments under Tennessee, is amended by adding Channel 291A, Clinton and Lynchburg, Channel 296A.

4. Section 73.202(b), the Table of FM Allotments under Texas, is amended by adding Rincon, Channel 284A.

Federal Communications Commission.
John A. Karousos,
Chief, Allocations Branch, Policy and Rules Division, Mass Media Bureau.

[FR Doc. 00-27907 Filed 10-30-00; 8:45 am]

BILLING CODE 6712-01-P